DEPARTMENT OF ENERGY

Federal Energy Regulatory Commission

[Docket No. AD22-12-000]

Joint FERC-DOE Supply Chain Risk Management Technical Conference; Initial Notice of Joint Supply Chain Risk Management Technical Conference of the Federal Energy Regulatory Commission and the Department of Energy

The Federal Energy Regulatory Commission and the Department of Energy will convene a Technical Conference in the above-referenced proceeding on December 7, 2022, from approximately 8:30 a.m. to 5:00 p.m. Eastern Time. The conference will be held in-person at the Commission's headquarters at 888 First Street NE, Washington, DC 20426 in the Commission Meeting Room.

The purpose of this conference is to discuss supply chain security challenges related to the Bulk-Power System, ongoing supply chain-related activities, and potential measures to secure the supply chain for the grid's hardware, software, computer, and networking equipment. FERC Commissioners and DOE's Office of Cybersecurity, Energy Security, and Emergency Response (CESER) Director will be in attendance, and panels will involve multiple DOE program offices, the North American Electric Reliability Corporation (NERC), trade associations, leading vendors and manufacturers, and utilities.

The conference will be open for the public to attend, and there is no fee for attendance. Supplemental notices will be issued prior to the conference with further details regarding the agenda, how to register to participate, and the format. Information on this technical conference will also be posted on the Calendar of Events on the Commission's website, www.ferc.gov, prior to the event. The conference will also be transcribed. Transcripts will be available for a fee from Ace Reporting, (202) 347-3700. Commission conferences are accessible under section 508 of the Rehabilitation Act of 1973. For accessibility accommodations, please send an email to accessibility@ferc.gov, call toll-free (866) 208-3372 (voice) or (202) 208-8659 (TTY), or send a fax to (202) 208-2106 with the required accommodations.

For more information about this technical conference, please contact Simon Slobodnik at Simon.Slobodnik@ferc.gov or (202) 502-6707. For information related to logistics, please contact Lodie White at Lodie.White@ferc.gov or (202) 502-8453.

Dated: October 11, 2022.
Kimberly D. Bose,
Secretary.

[FR Doc. 2022-22474 Filed 10-14-22; 8:45 am]

BILLING CODE 6717-01-P